DEPARTMENT OF JUSTICE

[AAG/A Order No. 211-2000]

Privacy Act of 1974; System of Records

AGENCY: Federal Bureau of Investigation, DOJ.

ACTION: Notice.

SUMMARY: Pursuant to the Privacy Act of 1974 (5 U.S.C. 552a), and Office of Management and Budget (OMB) Circular No. A-130, notice is hereby given that the Department of Justice, Federal Bureau of Investigation (FBI), is modifying the following system of records which was last published in the Federal Register on November 25, 1998 (63 FR 65223):

The National Instant Criminal Background Check System (NICS) JUSTICE/FBI-018.

Opportunity For Comment

The Privacy Act (5 U.S.C. 552a(e)(4) and (11)) requires that the public be given 30 days in which to comment on any new or amended uses of information in a system of records. In addition, in accordance with Privacy Act requirements (5 U.S.C. 552a(r)), the Department of Justice has provided a report on these modifications to OMB and the Congress. OMB, which has oversight responsibilities under the Act, requires that OMB and the Congress be given 40 days in which to review major changes to Privacy Act systems. Therefore, the public, OMB, and the Congress are invited to submit written comments on this modification.

FOR FURTHER INFORMATION CONTACT: Mary E. Cahill, Management Analyst, Management and Planning Staff, Justice Management Division, Department of Justice, 1400 National Place Building, Washington, DC 20530.

EFFECTIVE DATE: These proposed changes will be effective January 23, 2001, unless comments are received that result in a contrary determination.

SUPPLEMENTARY INFORMATION: The Department is modifying the system of records to clarify that the NICS contains records of appealed transactions in an appeals file which is separate from and in addition to the NICS Audit Log. (Although the NICS Audit Log is also used to record basic comments relating to appealed transactions.) Accordingly, we have added “Appeals Records” to the list of categories of records in the system.

Clarification was made to the category of “aliens” who are covered by the system. The revision notes that the category also includes aliens who have been admitted to the United States under a non-immigrant visa.

An introductory paragraph has been inserted into the “Routine Uses” section which sets the context for the enumerated uses that follow. We are also providing clarification through the promulgation of one new routine use (“I”) which expressly provides that information relating to individuals who have been denied a firearm by the NICS may be provided to federal, states, local, joint, tribal, foreign, international, or other public agencies/organizations for the furtherance of law enforcement interests. Proposed firearm transfers are denied by the NICS when available information demonstrates that the prospective transferee is disqualified from possessing a firearm under federal or state law. Law enforcement agencies may use this information to investigate possible violations of federal and/or state law with regard to the attempted purchase of the firearm, as well as for other law enforcement uses that could have significant public safety benefits.

Accordingly, the system of records is modified as provided below.

Dated: December 6, 2000.
Stephen R. Colgate,
Assistant Attorney General for Administration.

Justice/FBI-018

SYSTEM NAME:

National Instant Criminal Background Check System (NICS).

* * * * *

ACTION:

The system notice published in the Federal Register on November 25, 1998 (63 FR 65223), is amended as follows:

1. In the section titled “Category of Individuals Covered by the System,” subsection E is revised, and subsection L is amended by replacing the first two sentences with three new sentences, to read as follows:

CATEGORIES OF INDIVIDUALS COVERED BY THE SYSTEM:

* * * * *

E. Is an alien who is illegally or unlawfully in the United States or who has been admitted to the United States under a non-immigrant visa.

* * * * *

L. Has applied for the transfer of a firearm or for a firearms-related permit or license and has had his or her name forwarded to the NICS as part of a request for a NICS background check. (Identifying information about this category of individuals is maintained for system administration and security purposes in the “NICS Audit Log,” a system transaction log described below under the headings “CATEGORIES OF RECORDS IN THE SYSTEM” and “RETENTION AND DISPOSAL.” Identifying information may also be maintained in appeals files for those individuals who have requested the reason for a denial or delay from the FBI, or from a law enforcement agency serving as a POC, and/or challenged the accuracy or validity of a disqualifying record or otherwise inquired about a NICS transaction. * * *

2. The section titled “Categories of Records in the System” is amended by adding a new paragraph at the end to read as follows:

CATEGORIES OF RECORDS IN THE SYSTEM:

* * * * *

The NICS also contains “appeals records” which reflect inquiries by individuals regarding the reason for a delay or denial by the FBI or a POC, and/or challenges to the accuracy or validity of a disqualifying record, or other types of inquiries made by individuals about a NICS transaction.

3. The section titled “Routine Uses of Records Maintained in the System, Including Categories of Users and the Purposes of Such Uses” is amended by adding an introductory paragraph and a new subparagraph ( “I” ) at the end to read as follows:

ROUTINE USES OF RECORDS MAINTAINED IN THE SYSTEM, INCLUDING CATEGORIES OF USERS AND THE PURPOSES OF SUCH USES:

The FBI may disclose relevant system records to the following persons or entities under the circumstances or for the purposes described below, to the extent such disclosures are compatible with the purpose for which the information was collected. (Routine uses are not meant to be mutually exclusive and may overlap in some cases.)

* * * * *

I. Information pertaining to individuals who have been denied a firearm by the NICS may be disclosed, either electronically or otherwise, to a federal, state, local, joint, tribal, foreign, international, or other public agency/organization where such disclosure may promote, assist, or otherwise serve law enforcement interests. By way of example and not limitation, such disclosures may, for instance, include posting all NICS denials on a centralized database that would be electronically accessible to law enforcement agencies.

[FR Doc. 00-31749 Filed 12-13-00; 8:45 am]

BILLING CODE 4410-02-M